DEPARTMENT OF HEALTH AND HUMAN SERVICES

Centers for Disease Control and Prevention

[Program Announcement 01017]

National Partnerships for Human Immunodeficiency Virus (HIV) Prevention With a Focus on Business and Labor, Youth-at-High Risk, and Migrant Workers; Notice of Availability of Funds

A. Purpose

The Centers for Disease Control and Prevention (CDC) announces the availability of fiscal year (FY) 2001 funds for a cooperative agreement program for National Partnerships for Human Immunodeficiency Virus (HIV) Prevention. This program addresses the “Healthy People 2010” focus areas of HIV Educational and Community-Based Programs, and Sexually Transmitted Diseases. For a conference copy of “Healthy People 2010”, visit the internet site:

http://www.health.gov/healthypeople.

The purpose of the program is to develop local, regional, State, and national leadership and support for HIV prevention programs and policies, and to provide technical assistance and service delivery in support of capacity building and skills development for Community-based organizations (CBOs), State and local health departments, and other organizations conducting HIV prevention activities at the local, regional, state, and national levels. This announcement is intended to help address gaps in leadership and technical assistance in the development and delivery of HIV prevention services.

For the purpose of this announcement the following definitions apply:

Leadership activities are defined as the development of communication and mobilization strategies including network development, partnership formation and coalition building, to raise and maintain community, as well as national awareness of HIV prevention needs and programs in specified populations. Leadership activities may also include developing and implementing strategies for needs assessments, policy analysis and service integration in collaboration with the private sector, federal partners, health departments, CBOs and Community planning groups (CPGs).

Technical assistance activities are defined as the provision of information and skills, consultation and training for individuals and organizations to improve the delivery and effectiveness of HIV prevention interventions. Service delivery activities may also be included under the technical assistance activity. Technical assistance funds available under this announcement must support assistance that improves the capacity of recipient agencies to design, develop, implement, and/or evaluate effective HIV prevention interventions for one or more of the three populations described below.

B. Eligible Applicants

To be eligible for funding under this announcement, applicants must be (1) a tax-exempt, non-profit national business or labor related, youth related, or migrant worker related organization; or (2) an academic institution working in a contractual relationship with a community-based partner; or (3) a federally recognized Indian tribal government, a non-federally recognized tribe or other organization that qualifies under the Indian Civil Rights Act, State Charter Tribes, Urban Indian Health Programs, Indian Health Boards, and/or Inter-Tribal Councils.

If you are applying to conduct activities internationally, you must demonstrate having at least two years of experience conducting leadership or technical assistance activities in an international setting.

Indian Tribal governments, non-federally recognized tribes and other organizations that qualify under the Indian Civil Rights Act, State Charter Tribes, Urban Indian Health Programs, Indian Health Boards, and Inter-Tribal Councils may apply under each category provided that these entities meet the eligibility criteria described under each category.

Proof of non-profit tax-exempt status must be provided with the application. CDC will not accept an application without proof of tax-exempt status. Non-profit tax-exempt status is determined by the Internal Revenue Service (IRS) Code, Section 501(c)(3). Tax-exempt status may be proved by providing a current copy of the 501(c)(3) non-profit tax-exempt of the current IRS Determination Letter.

Note: Public Law 104-65 states that an organization described in section 501(c)(4) of the Internal Revenue Code of 1986 that engages in lobbying activities is not eligible to receive Federal funds constituting an Federal funds constituting an award, grant, cooperative agreement, contract, loan, or any other form. Below is additional eligibility criteria for each category.

Category I—Business- or Labor-Related Organization Programs

A. A business- or labor-related organization is a professional or voluntary organization, that (1) has businesses, business leaders, or labor leaders as a focus or constituency; or (2) is a labor union; or (3) is a trade association. In addition, the organization (4) has a formal or informal network, chapters, affiliates, constituent organizations, or offices in at least two U.S. States or territories; and (5) has access to or relationships with national or regional corporate, business, union, or labor leaders and managers (e.g., human resource managers). For example, a labor union with chapters in at least two States would meet the definition of a national business- or labor-related organization, whereas an individual State chapter of a national labor union would not.

B. Has a documented two year record of providing technical assistance or leadership activities focusing on HIV prevention with business and labor organizations and their employees or members.

Category II—Youth-Related Organization Programs

A. A youth-related organization is an organization that has youth, and/or service providers who work with youth, as a focus or constituency. The organization must have a formal or informal network, chapters, affiliates, constituent organizations, or offices in at least two U.S. States or territories. For example, an agency with a linked network of youth-serving providers with members residing in at least 2 States or Territories would meet the definition of a youth-related organization, whereas an individual chapter of a national organization would not.

B. Has a documented two year record of providing technical assistance, prevention services and/or leadership activities focusing on HIV prevention for Gay, Lesbian, Bisexual, Transgender and Questioning (GLBTQ) youth, homeless/run-away or street youth, and/or young women of color.

C. Has a young person, age 24 or younger from the target population, on the Board of Directors that oversees programmatic activities, or has an Advisory Committee to the Board of Directors that is made up of young people age 24 or younger from the target population.

Category III—Migrant Worker-Related Programs

A. A migrant worker-related organization is an organization that has migrant workers and/or the service providers who work with migrant workers, as a focus or constituency. The organization must have a formal or informal network, chapters, affiliates, constituent organizations, or offices in at least two U.S. States or territories. For example, an agency with a linked network of migrant worker-serving providers with members residing in at least two States or Territories would meet the definition of a migrant farmworker-related organization, whereas an individual chapter of a national organization would not.

B. Has a documented two year record of providing culturally tailored technical assistance or leadership activities focusing on HIV prevention for migrant workers.

C. Availability of Funds

Approximately $2.2 million is available in FY 2001 to fund approximately 9 awards. It is expected that the average award will be $225,000 ranging from $200,000 to $300,000. It is expected that the awards will begin on or about April 1, 2001, and will be made for a 12-month budget period within a project period of up to four years. Funding estimates may change.

Continuation awards within an approved project period will be made on the basis of satisfactory progress as evidenced by required reports, satisfactory site visits and the availability of funds.

Applicants may apply for funding in up to two categories, and within each category applicants may apply for one or both of the two activities, as defined in the section on “Recipient Activities”. A separate application package and budget must be submitted for EACH category.

1. Category I—Business- or Labor-related Organization Programs up to three awards, including:

—Up to two that address Activity A (Leadership Activities); and

—Up to two that address Activity B (Technical Assistance Activities).

2. Category II—Youth-related Organization Programs up to three awards, including:

—Up to two that address Activity A (Leadership Activities), and

—Up to two that address Activity B (Technical Assistance Activities).

3. Category III—Migrant Farmworker-related Programs up to three awards, including:

—Up to two that address Activity A (Leadership Activities), and

—Up to two that address Activity B (Technical Assistance Activities).

Use of Funds

1. Funds available under this announcement must support activities that engage and develop their constituent communities for the purpose of increasing awareness, leadership, participation, and support for HIV prevention and/or increase the ability of organizations to design, develop, implement, and evaluate effective HIV prevention interventions.

2. These Federal funds may not supplant or duplicate existing funding for these activities.

3. The applicant must perform a substantial portion of the program activities and cannot serve merely as a fiduciary agent. Applications requesting funds to support only managerial and administrative functions will not be accepted.

4. No funds will be provided for direct patient care, including substance abuse treatment, medical treatment, or medications.

5. Before using funds awarded through this cooperative agreement to develop HIV prevention materials, recipients must check with the CDC National Prevention Information Network (NPIN) to determine if suitable materials are already available. Also, materials developed by recipients must be made available for dissemination through the CDC NPIN. Successful applicants will be contacted by NPIN for information on program resources for use in referrals and resource directories. Also, grantees should send three copies of all educational materials developed under this cooperative agreement to NPIN for inclusion in NPIN's databases.

Funding Preferences

Preference for funding in all categories will be given to:

1. Ensuring that leadership development and/or technical assistance is available to the designated target populations as a primary focus; and

2. Addressing gaps in current national/regional or local technical assistance services (gaps may be defined by geography; target population, race/ethnicity, risk behavior; or intervention type).

3. Ensuring that technical assistance activities will address a variety of intervention types (e.g., small group intervention, counseling and testing, prevention case management) and strategies or programs that raise awareness about HIV.

4. Ensuring that technical assistance activities will address diverse target population groups.

Additional Funding Preference for Category I—Business and Labor:

Preference for funding will be given to ensuring that both business and labor organizations are funded in at least one of the two designated activities.

D. Program Requirements

In conducting activities to achieve the purpose of this program, the recipient will be responsible for the activities under 1. (Recipient Activities), and CDC will be responsible for the activities listed under 2. (CDC Activities).

1. Recipients in All Categories Must Conduct the Following Activities

a. Incorporate cultural competency and linguistic appropriateness into all technical assistance and skills building efforts, including those involving the development, production, dissemination, and marketing of health communication or prevention messages;

b. Use epidemiologic data, behavioral research, and program evaluation, to inform technical assistance and intervention development which meet the needs of the designated populations;

c. Coordinate program activities with relevant public sector partners, including national, regional, State, and local HIV prevention programs and Capacity Building Assistance (CBA) providers to prevent duplication of efforts. (Please see Attachment III for a list of the Division of HIV/AIDS Prevention Capacity-Building and Technical Assistance Providers. Also, see Section G. “Submission and Deadline” for online availability of complete program announcement, attachments, and forms);

d. Review and ensure consistency with applicable State and local comprehensive HIV prevention community plans when conducting program activities at the State and local levels;

e. Facilitate the dissemination of successful prevention interventions and program models through meetings, workshops, conferences, and communications with project officers;

f. Compile “lessons learned” from the project and share these with the CDC;

g. Monitor and conduct process evaluations on all major program activities and services supported with CDC HIV prevention funds under this cooperative agreement;

h. Submit CDC forms for initiating and completing technical assistance services. Forms will be provided by CDC.

2. Category I—Business- or Labor-Related Organization Programs—Recipient Activities

a. Activity A—Leadership Activities

(1) Develop and promote, at the national, State, and local levels, and when appropriate, at the international level, leadership in and support for HIV prevention policies and strategies, that promote private-public partnerships to enhance HIV/AIDS awareness and prevention;

(2) Influence and strengthen, at the national, State, and local levels, and when appropriate, international level, private sector engagement in shaping societal and community norms that dispel HIV/AIDS stigma, reduce discrimination against persons with HIV/AIDS, and facilitate HIV prevention by encouraging the adoption and maintenance of safer behaviors;

(3) Support the private sector development of policies and programs addressing HIV/AIDS and HIV prevention education in the workplace, at the national, State, regional, local, and when appropriate, international levels.

b. Activity B—Technical Assistance Activities

(1) Provide businesses and business-and labor-related organizations with technical assistance related to:

• Adopting and implementing appropriate CDC-recommended policies on HIV/AIDS in the workplace

• Educating managers and labor leaders about these policies

• Educating workers about HIV/AIDS in the workplace

• Educating workers and their families about HIV prevention, and

• Contributing to community efforts to control HIV transmission;

(2) Facilitate State and local HIV prevention community planning groups, health departments, CBOs, and other HIV prevention providers in working with business, labor, and business-and labor-related organizations to strengthen and promote HIV prevention efforts in the community;

(3) Facilitate business, labor and business-and labor-related organizations in working with State and local HIV prevention community planning groups, health departments, CBOs, and other HIV prevention providers to strengthen and promote HIV prevention efforts in the community.

These services are to be provided through the use of information transfer, skills building, technical consultation, technical services, and technology transfer. These services should be culturally appropriate and based in science.

(4) Implement a plan for developing and maintaining ongoing technical assistance and service delivery collaboration with CDC-funded CBOs, other CBOs, and State and local Health Departments.

(5) Implement a system that responds to technical assistance and service delivery requests. The system must include mechanisms for assessing and prioritizing requests; linking requests to other technical assistance and service resources and to services provided by other Technical Assistance providers.

(6) Identify and complement the technical assistance and service delivery efforts for the target population available locally. Cooperate with other national, regional, State, and local technical assistance and service providers to (a) avoid duplication of effort and (b) ensure that capacity-building assistance is allocated according to gaps in available services and the needs of organizations serving youth at high risk for acquiring and transmitting HIV and other STDs.

(7) Coordinate program activities with appropriate national, regional, State, and local governmental and non-governmental HIV prevention partners (e.g., health departments, CBOs and CPGs). (Note: For this announcement, the term “coordinate” means exchanging information and altering activities for mutual benefit.)

(8) Incorporate cultural competency, age, linguistic and educational appropriateness into all capacity-building activities;

3. Category II—Youth-Related Organization Programs—Recipient Activities

a. Activity A—Leadership

(1) Develop and promote, at the national, State, and local levels, and when appropriate, at the international level, leadership support for HIV prevention policies, programs and services for HIV prevention for young women of color; homeless, run-away and/or street youth; and/or Gay, Lesbian, Bisexual, Transgender and Questioning (GLBTQ) youth;

(2) Influence and strengthen, at the national, State, and local levels, and when appropriate, at the international level, societal and community norms that dispel HIV/AIDS stigma, reduce discrimination against persons with HIV/AIDS, and facilitate HIV prevention by supporting the adoption and maintenance of safer behaviors in youth.

b. Activity B—Technical Assistance

1. Include CDC-funded CBOs, other CBOs, Health Department staff, State education agencies, and other potential consumers of the proposed services in planning and evaluating the proposed technical assistance and service delivery program.

2. Ensure the effective and efficient provision of technical assistance and/or delivery of effective services to address HIV prevention for the designated youth populations. (Examples include, but are not limited to, intervention replication or adaptation, use of behavioral and social sciences to increase intervention effectiveness, increasing the cultural competence and linguistic appropriateness of interventions, service integration, developing effective health communications messages, conducting population-based needs assessments, and evaluation planning and implementation.) Recipients should work closely with CDC to identify interventions for the designated youth populations that have a sound basis in science or proven program experience and are suitable for dissemination.

For a compilation of intervention types (e.g. small group interventions, counseling and testing, prevention case management) and other proven interventions please refer to the CDC Compendium of Effective Programs, titled, “Compendium of HIV Prevention Interventions with Evidence of Effectiveness” November 1999, CDC Prevention Research Synthesis to reach the designated population (e.g. young women of color, GLBTQ youth, runaway, homeless, or street youth). The “Compendium of HIV Prevention Interventions with Evidence of Effectiveness” may be found in Attachment II and on the CDC home page Internet address. (See Section G. “Submission and Deadline” for online availability of complete program announcement, attachments, and forms).

These services are to be provided through the use of information transfer, skills building, technical consultation, technical services, and technology transfer. These services should be culturally appropriate and based in science.

3. Implement a plan for developing and maintaining ongoing technical assistance and service delivery collaboration with CDC-funded CBOs, other CBOs, and State and local Health Departments.

4. Implement a system that responds to technical assistance and service delivery requests. The system must include mechanisms for assessing and prioritizing requests; linking requests to other technical assistance and service resources and to services provided by other Technical Assistance providers.

5. Identify and complement the technical assistance and service delivery efforts for the target population available locally. Cooperate with other national, regional, State, and local technical assistance and service providers including Capacity Building Assistance (CBA) providers, to (a) avoid duplication of effort and (b) ensure that capacity-building assistance is allocated according to gaps in available services and the needs of organizations serving youth at high risk for acquiring and transmitting HIV and other STDs.

6. Coordinate program activities with appropriate national, regional, State, and local governmental and non-governmental HIV prevention partners (e.g., health departments, CBOs, CBA providers) and CPGs.

(Note: For this announcement, the term “coordinate” means exchanging information and altering activities for mutual benefit.)

7. Incorporate cultural competency, age, linguistic and educational appropriateness into all capacity-building activities;

8. Assist State and local HIV prevention community planning groups, health departments, CBOs, and other HIV prevention providers in working with youth and youth serving organizations to strengthen and promote HIV prevention among youth in the community.

9. Assist youth serving organizations in working with State and local HIV prevention community planning groups, health departments, CBOs, and other HIV prevention providers to strengthen and promote HIV prevention among youth in the community.

10. Participate in the CDC-coordinated Capacity-Building Assistance Network to enhance communication, coordination, and training.

4. Category III—Migrant Worker-Related Programs—Recipient Activities

a. Activity A—Leadership

1. Develop and promote, at the national, State, regional and local levels, and when appropriate, at the international level, leadership support for HIV prevention policies, programs and services for HIV prevention for migrant workers.

2. Influence and strengthen, at the national, State, and local levels, and when appropriate, at the international level, societal and community norms that dispel HIV/AIDS stigma, reduce discrimination against migrant workers with HIV/AIDS, and facilitate HIV prevention by supporting the adoption and maintenance of safer behaviors in migrant workers.

b. Activity B—Technical Assistance

1. Include CDC-funded CBOs, other CBOs, Health Department staff, State education agencies, and other potential consumers of the proposed services in planning and evaluating the proposed technical assistance and service delivery program.

2. Ensure the effective and efficient provision of technical assistance and/or delivery of effective services to address HIV prevention for migrant workers.

(Examples include, but are not limited to, intervention replication or adaptation, use of behavioral and social sciences to increase intervention effectiveness, increasing the cultural competence and linguistic appropriateness of interventions, service integration, developing effective health communications messages, conducting population-based needs assessments, and evaluation planning and implementation.) Recipients should work closely with CDC to identify interventions for the migrant worker population that have a sound basis in science or proven program experience and are suitable for dissemination.

These services are to be provided through the use of information transfer, skills building, technical consultation, technical services, and technology transfer. These services should be culturally and linguistically appropriate and based in science.

3. Implement a plan for developing and maintaining ongoing technical assistance and service delivery collaboration with CDC-funded CBOs, other CBOs, and State and local Health Departments.

4. Implement a system that responds to requests for technical assistance and service delivery. The system must include mechanisms for assessing and prioritizing requests; linking requests to other technical assistance and service resources and to services provided by other Technical Assistance providers.

5. Identify and complement the technical assistance and service delivery efforts for the target population available locally. Cooperate with other national, regional, State, and local technical assistance and service providers to (a) avoid duplication of effort, and (b) ensure that technical assistance is allocated according to gaps in available services and the needs of organizations serving migrant workers at risk for acquiring and transmitting HIV and other STDs.

6. Coordinate program activities with appropriate national, regional, State, and local governmental and non-governmental HIV prevention partners (e.g., health departments, CBOs, CBA providers), other technical assistance providers and CPGs. (Note: For this announcement, the term “coordinate” means exchanging information and altering activities for mutual benefit.)

7. Incorporate cultural and linguistic competency, and educational appropriateness into all technical assistance and prevention activities;

8. Assist State and local HIV prevention community planning groups, health departments, CBOs, and other HIV prevention providers in working with migrant workers and/or organizations serving migrant workers to strengthen and promote HIV prevention among this community.

9. Assist migrant serving organizations in working with State and local HIV prevention community planning groups, health departments, CBOs, and other HIV prevention providers to strengthen and promote HIV prevention among youth in the community.

2. CDC Activities

a. Serve as the coordinator for technical assistance and service provision as part of CDC's overall capacity-building programs and network by ensuring coordination and collaboration with other capacity building and technical assistance providing grantees.

b. Provide consultation to recipients regarding planning, developing, implementing and evaluating technical assistance services. CDC will provide consultation and assistance and may also employ contractors; national, regional, and local organizations; and peer-to-peer assistance from CDC-funded partners.

c. Provide up-to-date scientific information on the risk factors for HIV infection, prevention measures, and program strategies for the prevention of HIV infection. Work closely with recipients to identify interventions that have a sound basis in science or proven program experience and are suitable for dissemination.

d. Facilitate and promote collaboration through the exchange of program information, coalition maintenance strategies, and technical assistance/capacity-building assistance among CBOs; State and local health departments; HIV prevention community planning Groups; national, regional, and local organizations; and other HIV prevention partners.

e. Support train-the-trainer opportunities that enhance capacity-building/technical assistance delivery systems.

f. Facilitate and collaborate in the dissemination of successful capacity-building/technical assistance strategies and successful innovations through meetings of grantees, workshops, and conferences.

g. Collaborate with recipients to standardize a system for tracking and reporting all technical assistance requests and delivery.

h. Coordinate an evaluation of the overall assistance program.

E. Application Content for All Applicants

Use the information in the Program Requirements, Other Requirements, and Evaluation Criteria sections to develop the application content. Your application will be evaluated on the evaluation criteria listed, so it is important to follow them in laying out your application. The narrative should be no more than 40 double-spaced pages (excluding the budget and attachments). Number each page, including appendices and attachments sequentially and provide a complete “Table of Contents” to the application and its attachments. Please begin each separate section of the application on a new page. The original and each copy of the application set must be submitted unstapled and unbound.

All material must be typewritten with a font of 10 pitch or 12 point on 8½″ by 11″ paper, with at least 1″ margins, headings and footers; and printed on one side only. Materials which should be part of the basic plan will not be accepted if placed in the attachments. Attachments should be unbound and printed in black and white.

In developing the application, follow the format and instructions outlined below.

1. Proof of Eligibility

Include documents as specified below as proof of eligibility. Applicants must complete this section. Failure to provide the required documentation will result in your application being disqualified and returned to you without further review.

a. Indicate if your organization is a national, regional or local organization. Attach the specific charge from your organization's Articles of Incorporation, Bylaws, or a resolution from its executive board or governing body to operate nationally, regionally (in multiple states or territories), or internationally and proof of informal networks which allows your organization to work in multiple states and/or regions.

b. Indicate if your organization is (1) business or labor related, or a labor union/trade association, (2) youth related, (3) migrant worker related, (4) an academic institution working in a contractual relationship with a community-based partner or (5) a federally recognized Indian tribal government or a non-federally recognized tribe or other organization that qualifies under the Indian Civil Rights Act, State Charter Tribe, Urban Indian Health Program, Indian Health Board, or Inter-Tribal Council.

c. Does your organization have a currently valid 501(c)(3) non-profit tax-exempt status? Attach to this section a copy of the current, valid Internal Revenue Service (IRS) determination letter of your organization's 501(c)(3) non-profit tax-exempt status.

If you are applying as an academic institution: Include a “Memoranda of Understanding” which provides a detailed description and time-line of the activities to be conducted by the community-based partner with which you are contracting.

If you are applying to conduct international activities: Include documented evidence which demonstrates that you have at least two years of experience conducting leadership or technical assistance activities in an international setting.

If your organization conducts Business-or Labor-related programs:

(a) Submit documentation proving that your organization has businesses, business leaders, or labor leaders as a focus or constituency: or (1) is a labor union; or (2) is a trade association. In addition, the organization (3) has a formal or informal network, chapters, affiliates, constituent organizations, or offices in at least two U.S. States or territories; and (4) has access to national or regional corporate, business, union, or labor leaders and managers (e.g., human resource managers).

(b) Submit the following documents to demonstrate that your organization has a two year record of providing technical assistance, conducting leadership activities focusing on HIV prevention with business and labor organizations and their employees or members and/or delivering HIV prevention services: (1) Attach to this section a list of clients, including the organization name, location (i.e., city and State), dates of service, and type(s) of assistance provided, (2) Provide copies of memoranda of understanding, agreements, or contracts and/or consultants, (3) training agendas, (4) newspaper articles, (5) correspondence from recipients of assistance, (6) program brochures, (7) extracts from previous grants to support comparable activities.

If your organization conducts youth-related programs:

(a) Submit documentation demonstrating that your organization has a formal or informal network, chapters, affiliates, constituent organizations, or offices in at least two U.S. States or territories.

(b) Attach the following documents as evidence that your organization has a two year record of providing technical assistance, conducting leadership activities focusing on HIV prevention for youth and/or delivering HIV prevention services: (1) Attach to this section a list of clients, including the organization name, location (i.e., city and State), dates of service, and type(s) of assistance provided, (2) Provide copies of memoranda of understanding, agreements, or contracts/consultants, (3) training agendas, (4) newspaper articles, (5) correspondence from recipients of assistance, (6) program brochures, (7) extracts from previous grants to support comparable activities.

(c) Attach a complete list of the members of your board, governing body or advisory committee along with their positions on the board, age and gender as evidence that a person age 24 or younger participates on the Board that oversees programmatic activities, or that your organization has an Advisory Committee to the Board that is made up of young people age 24 or younger.

If your organization conducts Migrant Worker-related programs:

(a) Submit evidence of having a formal or informal network, chapters, affiliates, constituent organizations, or offices in at least two U.S. States or territories.

(b) Attach the following documents as evidence that your organization has a documented two year record of providing culturally tailored technical assistance, conducting leadership activities focusing on HIV prevention for migrant workers and/or delivering HIV prevention services: (1) Attach to this section a list of clients, including the organization name, location (i.e., city and State), dates of service, and type(s) of assistance provided, (2) Provide copies of memoranda of understanding, agreements, or contracts/consultants, (3) training agendas, (4) newspaper articles, (5) correspondence from recipients of assistance, (6) program brochures, (7) extracts from previous grants to support comparable activities.

2. Abstract (not to exceed two pages)

Summarize your proposed program activities. Include the following:

a. category and activity for which the application is being made;

b. brief summary of the need for the proposed activities and how the target audience perceives risk behaviors and preventive measures;

c. brief description of organizational history and capacity;

d. proposed first budget period objectives;

e. brief summary of proposed plan of operation;

f. brief description of planned collaborations with governmental and non-governmental organizations;

g. brief summary of plans for evaluating the activities of this project (only process evaluation is required); and

3. Organizational History and Capacity

4. Assessment of Need

5. Long-term Goals

6. Program Proposal

a. Objectives

b. Plan of Operation

c. Prioritize Program Activities

d. Coordination/Collaboration

e. Communications

f. Time Line

7. Scientific, Theoretical, or Conceptual Foundation for Proposed Activities

8. Plan for Process Evaluation

9. Project Management and Staffing

10. Budget Breakdown and Justification

For the personnel section, indicate the job title, annual salary/rate of pay, and percentage of time spent on this program.

For contracts contained within the application budget, identify the contractor, if known, describe the services to be performed, justify the use of a third party, and provide a breakdown of and justification for the estimated costs of the contracts, the kinds of organizations or parties to be selected, the period of performance, and the method of selection.

Note: If indirect costs are requested, you must provide a copy of your organization's current negotiated Federal indirect cost rate agreement.

11. Attachments

Provide the following as attachments:

a. Proof of nonprofit status;

b. An organizational chart and listing of existing and proposed staff, including volunteer staff;

c. Description of collaborating organizations or institutions, if appropriate and original, signed letters from the chief executive officers of each such organization or institution assuring their understanding of the intent of this program announcement, the proposed program, their role in the proposed program, and the responsibilities of recipients;

d. A description of any funding being received from CDC or other sources to conduct activities related to HIV and similar to those proposed which includes:

(1) A summary of funds and income received to conduct HIV/AIDS programs. This summary must include the name of the sponsoring organization/source of income, level of funding, a description of how the funds have been used, and the budget period. In addition, identify proposed personnel devoted to the project you are proposing and personnel supported by other funding sources and the activities they support.

(2) A summary of the objectives and activities of the funded programs described above.

(3) A description of how funds requested in this application will be used differently or in ways that will expand upon the funds already received, applied for, or being received; and

(4) An assurance that the funds being requested will not duplicate or supplant funds received from any other Federal or non-Federal source. CDC awarded funds can be used to expand or enhance services supported with other Federal or non-Federal funds.

e. Independent audit statements from a certified public accountant for the previous 2 years.

F. Evaluation Criteria

Each application will be evaluated individually against the following criteria by an independent review group appointed by CDC.

1. Organizational History and Capacity: (15 Total Points)

a. The extent to which the applicant describes their role as a national, regional, local or international entity and how they meet the eligibility criteria defined in this program announcement; describes their existing organizational structure, including constituent or affiliate organizations or networks, how that structure will support the proposed program activities, and how the proposed program will have the capacity to reach targeted communities or groups in multiple States or territories. (3 points)

b. The extent to which the applicant describes their past and current experience in developing and implementing similar programs in the appropriate category and activity; for leadership activities, describes capacity for and expertise in leadership development; for technical assistance activities, describes capacity and expertise in providing technical assistance; for HIV service deliver, describes capacity and expertise in delivering HIV prevention services. (3 points)

c. The extent to which the applicant describes their knowledge of HIV transmission and behavioral and social interventions for preventing HIV transmission, and experience in developing and implementing effective HIV prevention strategies and activities appropriate to the target audience; discusses their capacity and expertise in providing educational or prevention services to the target populations at risk for HIV. (3 points)

d. The degree to which the applicant describes their capacity to provide culturally competent and linguistically appropriate services that respond effectively to the cultural, gender, age, environmental, social and multilingual character of the target audiences, including any history of providing such services. (3 points)

e. The degree to which the applicant describes their experience and ability to (1) collaborate with other governmental and non-governmental organizations, including other national agencies or organizations, State and local health departments, CPGs, and State and local non-governmental organizations that provide HIV prevention services; and (2) coordinate program development with existing governmental and private prevention efforts. (2 points)

f. For any of the above areas in which the applicant does not have capacity or expertise, the degree to which the applicant describes measures to ensure that the proposed program obtains that capacity (e.g., through a collaborating organization or a subcontractor). (1 point)

2. Assessment of Need (10 Total Points)

The extent to which the applicant clearly identifies the need that will be addressed by the proposed program; describes how the need for the proposed program was assessed; includes epidemiologic and other data used to identify the need, an inventory of resources currently available that address the identified need, and an analysis of the gap between the identified need and the resources currently available to address the need (i.e., how will proposed activities or program address an important unmet HIV prevention need or risk-group?). State why the funds being applied for in this application are necessary to address the need.

3. Long-term Goals: (5 Total Points)

The extent to which the applicant describes the broad goals that the proposed program aims to achieve over the course of the project period; and describes how these goals relate to the prevention of HIV infection, either directly or indirectly.

4. Program Proposal (25 Total Points)

The extent to which the applicant describes the proposed program, including:

a. Objectives: Provides specific, realistic, time-phased and measurable objectives to be accomplished during the first budget period. Describes how these objectives relate to the program's long-term goals. Describes possible barriers to or facilitators for reaching these objectives. (5 points)

b. Plan of Operation: Describes in detail the methods (i.e., strategies and activities) used to achieve the proposed goals and objectives, and perform the required recipient activities. Identifies program staff responsible for conducting the proposed activities. Describes specifically how general and activity-specific requirements will be addressed. Describes their roles and responsibilities and those of each collaborating institution, organization, subcontractor or CBA provider in performing the proposed activities. (5 points)

c. Prioritize Program Activities: Describes how program activities will be prioritized to place emphasis on the target populations or communities that are disproportionately affected by HIV/AIDS. (4 points)

d. Coordination/Collaboration: Describes how they will work and coordinate with other national, regional, State, and local governmental and nongovernmental organizations, including CBA providers, the private sector, as well as other HIV prevention providers, to conduct the proposed activities. Describes how they will ensure consistency with applicable State and local comprehensive HIV prevention community plans when conducting program activities at the State and local levels. (4 points)

e. Communications: Describes how they will share successful approaches with other organizations and how “lessons learned” will be compiled and disseminated. (3 points)

f. Time Line: Provides a time line that indicates the approximate dates by which activities will be accomplished. (4 points)

5. Scientific, Theoretical, or Conceptual Foundation for Proposed Activities: (15 Total Points)

The extent to which the applicant provides a detailed description of the scientific, theoretical, or conceptual foundation on which the proposed activities are based and which support the potential effectiveness of these activities for addressing the stated need.

6. Plan of Evaluation: (15 Total Points)

The extent to which the applicant describe how activities to monitor progress to determine if the objectives are being achieved, and determine if the methods used to deliver the proposed activities are effective. Describes how data will be collected, analyzed, and used to improve the program.

7. Project Management and Staffing: (15 Total Points)

The extent to which the applicant describes how the proposed program will be managed and staffed, including the location of the program within the organization. Describe in detail each existing or proposed position by job title, function, general duties, and activities. Include the level of effort and allocation of time for each project activity by staff positions. If the identity of any key personnel who will fill a position is known, provide their curriculum vitae (not to exceed two pages per person) as an attachment. Note experience and training related to the proposed project.

8. Budget Breakdown and Justification: (Not Scored)

The extent to which the applicant provides a detailed budget for each proposed activity. Justifies all operating expenses in relation to the stated objectives and planned priority activities. Provides specific information about the program purpose of each budget item and itemizes calculations wherever appropriate. CDC may not approve or fund all proposed activities.

For the personnel section, indicates the job title, annual salary/rate of pay, and percentage of time spent on this program.

G. Submission and Deadline

Application: Submit the original and two copies of PHS 5161-1 (OMB Number 0937-0189) and Assurance of Compliance with the “Requirements of AIDS-related written materials, pictorials, audiovisuals, questionnaires, survey instruments, and educational sessions in Centers for Disease Control and Prevention (CDC) Assistance Programs”.

Forms are available at the following Internet addresses: www.cdc.gov/ * * *. Forms or in the application kit.

The PHS 5161-1 form is available at

http://forms.psc.gov/forms/phs/ps5161-1.pdf

The Assurance of Compliance Form is available at

http://www.cdc.gov/od/pgo/forms/hivpanel.htm

On or before February 23, 2001 submit the application to the Grants Management Specialist identified in the “Where to Obtain Additional Information” section of this announcement.

Deadline: Applications shall be considered as meeting the deadline if they are either:

(a) Received on or before the deadline date; or

(b) Postmarked on or before the deadline date and received in time for submission to the independent review group.

(Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

H. Other Requirements

Technical Reporting Requirements

Provide CDC with original plus two copies of:

1. Progress reports quarterly including technical assistance and service delivery requested and delivered;

2. financial status report, no more than 90 days after the end of the budget period; and

3. final financial and performance reports, no more than 90 days after the end of the project period.

Send all reports to the Grants Management Specialist identified in the “Where to Obtain Additional Information” section of this announcement.

The following additional requirements are applicable to this program. For a complete description of each, see Attachment I in the application kit. (List all applicable requirements by number and title. The Grants Management Branch will include the applicable descriptions in the application kit.)

AR-4 HIV/AIDS Confidentiality Provisions

AR-5 HIV Program Review Panel Requirements

AR-7 Executive Order 12372 Review

AR-8 Public Health System Reporting Requirements

AR-9 Paperwork Reduction Act Requirements

AR-10 Smoke-Free Workplace Requirements

AR-11 Healthy People 2010

AR-12 Lobbying Restrictions

AR-14 Accounting System Requirements

AR-15 Proof of Non-Profit Status

I. Authority and Catalog of Federal Domestic Assistance Number

This program is authorized under section 317(k)(2) of the Public Health Service Act, [42 U.S.C. 247b(k)(2)], as amended. The Catalog of Federal Domestic Assistance number is 93.941.

J. Where to Obtain Additional Information

This and other CDC announcements can be found on the CDC home page Internet address— http://www.cdc.gov click on “Funding” then “Grants and Cooperative Agreements.”

To receive additional written information and to request an application kit, call 1-888-GRANTS4 (1-888 472-6874).

You will be asked to leave your name and address and will be instructed to identify the Announcement number of interest.

If you have questions after reviewing the contents of all the documents, business management technical assistance may be obtained from: Julia L. Valentine, Grants Management Specialist, Grants Management Branch, Procurement and Grants Office, Centers for Disease Control and Prevention, 2920 Brandywine Road, Room 3000, Atlanta, GA 30341-4146, Telephone number: 770-488-2732, Email address: jxv1@cdc.gov.

For program technical assistance, contact: Karena Sapsis, Public Health Advisor, Training and Technical Support Systems Branch, Division of HIV/AIDS Prevention, National Center for HIV, STD and TB Prevention, Centers for Disease Control and Prevention, 1600 Clifton Rd., NE Mailstop E-40, Atlanta, GA 30333, Telephone: (404)639-5221 email: kes0@cdc.gov.

Dated: January 11, 2001.
Sandra R. Manning,
Acting Director, Procurement and Grants Office, Centers for Disease Control and Prevention (CDC).

[FR Doc. 01-1468 Filed 1-17-01; 8:45 am]

BILLING CODE 4163-18-P